DEPARTMENT OF HOMELAND SECURITY

Coast Guard

[Docket Number USCG-2021-0183]

Modernization of Coast Guard Base Seattle; Preparation of Programmatic Environmental Impact Statement

AGENCY: Coast Guard, DHS.

ACTION: Notice of intent to prepare a Programmatic Environmental Impact Statement; notice of virtual scoping; and request for comments.

SUMMARY: The United States Coast Guard, as the lead agency, announces its intent to prepare a Programmatic Environmental Impact Statement (PEIS). The PEIS will evaluate the potential environmental consequences of the Coast Guard's Proposed Action to expand and modernize Coast Guard Base Seattle in Seattle, Washington. Notice is hereby given that the public scoping process has begun for the preparation of a PEIS for the Proposed Action. The purpose of the scoping process is to solicit public comments regarding the range of issues, information, and analyses relevant to the Proposed Action, including potential environmental impacts and reasonable alternatives to address in the PEIS. This PEIS is being prepared in compliance with the National Environmental Policy Act (NEPA) of 1969 and the regulations implemented by the Council on Environmental Quality. The Coast Guard has determined that a PEIS is the most appropriate type of NEPA document for this action because the Proposed Action is anticipated to occur over several years, and many of the site-specific project details are not known. This notice also notifies the public that the Coast Guard intends to host a web-based, web-based project site to provide additional information to the public and to solicit comments on potential issues, concerns, and reasonable alternatives that should be considered in the PEIS. Following the scoping period, a Draft PEIS will be prepared and ultimately circulated for public comment.

DATES: Public Scoping comments and related material must be post-marked or received by the Coast Guard on or before June 21, 2021. A representative will respond to substantive and relevant questions submitted via https://virtual.woodplc.com/VirtualSpace/102907, or emailed to BaseSeattlePEIS@uscg.mil, during normal business hours (Pacific Standard Time) between May 7, 2021-June 14, 2021.

ADDRESSES: You may submit comments identified by docket number USCG-2021-0183 using the Federal eRulemaking Portal at https://www.regulations.gov. See the “Public Scoping Process” portion of the SUPPLEMENTARY INFORMATION section for further instructions on submitting comments. A virtual scoping tool will be available at https://virtual.woodplc.com/VirtualSpace/102907. If electronic comments cannot be submitted, written comments can be sent to: U.S. Coast Guard, Shore Infrastructure Logistics Center, Environmental Management Division, Attn: Mr. Dean Amundson, 1301 Clay Street, Suite 700N, Oakland, CA 94612-5203.

FOR FURTHER INFORMATION CONTACT: For information about this document call or email Dean Amundson, Coast Guard; telephone 510-637-5541, BaseSeattlePEIS@uscg.mil.

SUPPLEMENTARY INFORMATION: This Notice of Intent briefly summarizes the proposed project, including the purpose and need and possible alternatives. As required by the National Environmental Policy Act of 1969 (NEPA) and Council on Environmental Quality (CEQ) implementing regulations (40 CFR 1500-1508, specifically § 1502.3), a Federal agency must prepare an EIS if it is proposing a major Federal action to analyze the environmental consequences of implementing each of the alternatives, if carried forward for full review following public scoping, by assessing the effects of each alternative on the human environment.

Purpose and Need for the Proposed Action

Base Seattle supports, and will continue to support, the Coast Guard's execution of its statutory missions, pursuant to 14 U.S.C. 102. The Coast Guard's Base Seattle is located on Puget Sound in Seattle, Washington. The Base serves as the homeport for several Coast Guard cutters and provides a full range of support functions for vessels and Coast Guard missions in the Pacific Northwest and Polar areas of operation.

The purpose of the Proposed Action is to provide adequate facilities and infrastructure at Base Seattle to support current and future execution of the Coast Guard's statutory missions. Base Seattle is the largest Coast Guard facility in the Pacific Northwest and is an essential facility to support Coast Guard missions in the Pacific Northwest and Polar regions now and for the foreseeable future. To continue to support Coast Guard mission execution throughout these regions, expansion and extensive modernization of Base Seattle is required.

The need for the Proposed Action is to address substantial existing deficiencies in facilities and infrastructure at Base Seattle that hinder the efficient execution of Coast Guard missions, as well as provide facility enhancements necessary to support current and future major cutters homeported at Base Seattle. Three new Polar Security Cutters are planned to be homeported at Base Seattle. In addition, one existing icebreaker—CGC HEALY—is expected to remain at Base Seattle, and up to four other major cutters may be homeported at Base Seattle in the future, replacing two existing high endurance cutters. Advances in major cutter technology require infrastructure enhancements and renovations to accommodate the increased size and shore-side support requirements associated with these advanced operating assets. The Coast Guard has identified deficiencies that include, but are not limited to, a lack of adequate land area, incompatible land uses, shortage of berthing capacity, out of date and inadequate facilities and infrastructure, and traffic congestion and parking shortfalls, as well as the need for improved resiliency in the event of natural disasters, and improved physical security capabilities.

Modernization and renovation efforts would ensure operational and mission support requirements are properly provided for and would enhance the resiliency and long-term sustainability of Base Seattle facilities and infrastructure. Planning with future mission flexibility in mind also minimizes the need for costly future infrastructure modifications and resulting environmental impacts.

Preliminary Proposed Action and Alternatives

Coast Guard has identified a Proposed Action and preliminary Alternatives for potential consideration in the PEIS. A No-Action and three preliminary, reasonable Action Alternatives are presented for consideration for public review and comment. The Proposed Action would expand Base Seattle and modernize existing facilities and infrastructure over approximately the next 10 years.

Actions Common to All Alternatives

All three Action Alternatives include several common actions, including the following:

• Demolishing existing, deficient buildings 1, 2, 2 Annex, 10, and 12, and consolidating the functions of these buildings into a new 3-story, approximately 36,000 square foot Mission Support Building, and a new 5-story, approximately 75,000-square-foot Base Administration Building.

• Rehabilitating or rebuilding Building 7 and a small area of Terminal 46 to meet current needs, as well as building codes and seismic standards, and other potential seismic stabilization throughout the Base.

• Upgrading the main gate of the Base and the security fencing and functions, including expanding fencing to incorporate any newly acquired property.

• Modernizing communications, electrical, natural gas, sanitary sewer, potable water, and storm sewer utilities, and realigning these utilities to correspond with the development pattern under each of the alternatives.

• Realigning parking, roadways, walkways, and landscaping to correspond with the development pattern under each of the alternatives.

The three Action Alternatives differ in the amount of land proposed for acquisition.

Alternative 1—Modernization With Land Acquisition at Terminal 46

Under Alternative 1, the Coast Guard would acquire approximately 54.1 acres from the Port of Seattle, consisting of a currently leased, approximately 1.1 acre parcel within the existing Base footprint and up to 53 acres of Terminal 46. This alternative would include acquisition of two existing berths at Terminal 46.

Alternative 2—Modernization With Land Acquisition at Terminals 30 and 46

Under Alternative 2, the Coast Guard would acquire approximately 21.5 acres from the Port of Seattle, consisting of two currently leased properties within the existing Base footprint, totaling approximately 2.2 acres, approximately 0.3 acre Burlington-North Santa Fe (BNSF) property, approximately 5.5 acres of Terminal 46, and approximately 13.5 acres of Terminal 30. This alternative would allow for development of one new berth on current Coast Guard property and one new berth on acquired property at Terminal 30.

Alternative 3—Modernization With Reduced Land Acquisition at Terminal 46

Under Alternative 3, the Coast Guard would acquire approximately 24.25 acres from the Port of Seattle, including two currently leased properties within the existing Base footprint, totaling approximately 2.2 acres, approximately 0.3 acre BNSF property, and approximately 21.75 acres of Terminal 46. This alternative would allow for development of one new berth on current Coast Guard property and include acquisition of one existing berth at Terminal 46.

No-Action Alternative

The Coast Guard will also analyze a No-Action Alternative. For the purposes of this PEIS, the No-Action Alternative is defined as not implementing Base expansion and facility and infrastructure modernization requirements. This would result in a loss of operational capabilities.

Scope of Analysis for the PEIS

The Coast Guard is proposing to undertake a removal action at Base Seattle pursuant to Comprehensive Environmental Response, Compensation, and Liability Act actions (CERCLA) (42 United States Code 9601) in conjunction with the U.S. Environmental Protection Agency, to address known contamination. The Coast Guard will not make a decision on any CERCLA actions since they fall outside of the scope of a NEPA analysis, consistent with 40 CFR 1501.1(a)(6). The impacts of any current and potential future CERCLA projects will be considered within the baseline of the affected environment under the PEIS.

Summary of Expected Impacts

Acoustic and physical stressors associated with the Proposed Action may potentially impact the physical and biological environment in and around Base Seattle. The primary potential physical stressor is from the construction and operation of facilities and infrastructure. Stressors associated with the Proposed Action may potentially impact air quality, ambient sound, biological resources (including critical habitat), coastal resources, cultural resources (including Tribal fishing rights), traffic and circulation, and socioeconomic resources.

The PEIS will evaluate the likelihood that a resource would be exposed to or encounter a stressor and identify the potential impact associated with that exposure or encounter. The likelihood of an exposure or encounter is based on the stressor, location, and timing relative to the spatial and temporal distribution of each biological resource or critical habitat. Most work associated with the proposed action would occur on shore and could potentially affect terrestrial resources; there is the potential for some in-water activities that could affect aquatic resources.

Anticipated Permits and Authorizations

The Proposed Action is programmatic in nature and specific projects are anticipated to occur over the next decade. Many of the site-specific project details are not known. As such, permits and authorizations will be identified in the PEIS. Certain approvals may be completed as part of the PEIS, but many of the specific permits and authorizations would not necessarily be issued for site-specific projects until they are programmed, funded, and design details are developed. Implementation of all alternatives will ultimately require compliance with the following laws and regulations through issuance of permits and/or authorizations:

The Coastal Zone Management Act (CZMA; 16 U.S.C. 1451 et seq.) was enacted to protect the coastal environment from demands associated with residential, recreational, and commercial uses. The Coast Guard would determine the impact of the Proposed Action and provide a Coastal Consistency Determination or Negative Determination to the Washington Department of Ecology for the proposed modernization activities at Base Seattle.

The Endangered Species Act (ESA) of 1973 (16 U.S.C. 1531 et seq.) provides for the conservation of endangered and threatened species and the ecosystems on which they depend. The Coast Guard anticipates engaging with the National Marine Fisheries Service and the U.S. Fish and Wildlife Service, pursuant to Section 7 of the ESA, which have jurisdiction over ESA-listed species and critical habitat (50 CFR 402.14(a)). Project specific consultation under Section 7 may not necessarily occur until a later date when site specific project details are known.

The Marine Mammal Protection Act (MMPA; 16 U.S.C. 1361 et seq.) regulates “take” of marine mammals in U.S. waters. The term “take” as defined in Section 3 (16 U.S.C. 1362) of the MMPA, means “to harass, hunt, capture, or kill, or attempt to harass, hunt, capture, or kill any marine mammal.” “Harassment” was further defined in the 1994 amendments to the MMPA as any act of pursuit, torment, or annoyance which (i) has the potential to injure a marine mammal or marine mammal stock in the wild (i.e., Level A Harassment); or (ii) has the potential to disturb a marine mammal or marine mammal stock in the wild by causing disruption of behavioral patterns, including, but not limited to, migration, breathing, nursing, breeding, feeding, or sheltering (i.e., Level B Harassment). The Coast Guard anticipates engaging with the National Marine Fisheries Service although actual authorization for potential Level B Harassment from construction activities may not necessarily occur until a later date when site specific project details are known.

The Clean Water Act (33 U.S.C. 1251, et seq.), Section 404 regulates the discharge of dredged or fill material into waters of the United States and the Rivers and Harbors Act (33 U.S.C. 403), Section 10 regulates the obstruction or alteration of navigable waters of the United States. The Coast Guard anticipates that a very limited amount of work conducted as part of the Proposed Action may require a permit from the Corps of Engineers under either the Clean Water Act or Rivers and Harbors Act. Actual authorization for permits will be obtained, if necessary, once site specific project details are known.

The National Historic Preservation Act (NHPA; 16 U.S.C. 470, et seq.), Section 106, requires that each federal agency identify and assess the effects its actions may have on historic resources, including potential effects on historic structures, archaeological resources, and tribal resources. The Coast Guard would determine if any historic resources are present in the project area, evaluate the potential for the proposed action to adversely affect these resources, and consult with the Washington State Historic Preservation Officer and any interested or affected Tribes to resolve any adverse effects by developing and evaluating alternatives or measures that could avoid, minimize, or mitigate impacts.

The Clean Air Act (42 U.S.C. 7401, et seq.) regulates emissions from both stationary (industrial) sources and mobile sources. The Coast Guard would evaluate the potential for increased emissions during construction and operation of modernized facilities to determine if the emissions would be in conformity with the State Implementation Plan for attainment of National Ambient Air Quality Standards.

In addition, Coast Guard will complete Consultation with all affected Federally Recognized Tribes on a government-to-government basis in accordance with Executive Order 13175.

Schedule for the Decision-Making Process

Following the scoping period announced in this Notice of Intent, and after consideration of all comments received during scoping, Coast Guard will prepare a Draft PEIS for the expansion and modernization of Base Seattle. Once the Draft PEIS is completed, it will be made available for a 45-day public review and comment period. Coast Guard will announce the availability of the Draft PEIS in the Federal Register and local media outlets. Coast Guard expects the Draft PEIS will be available for public review and comment in 2021. In meeting CEQ regulations requiring EISs to be completed within 2 years the Coast Guard anticipates the Final PEIS would be available in 2022. Availability of the Final PEIS would be published in the Federal Register. If approved, land acquisition would be expected to occur soon after completion of this PEIS, with the first rehabilitation projects, construction projects, or both, expected to begin as early as 2022. Because construction details and designs are not available at this time, new information may become available after the completion of the PEIS. Should new information become available after the completion of the Draft or Final PEIS, supplemental NEPA documentation may be prepared in support of new information or changes in the Proposed Action considered under the PEIS.

Public Scoping Process

The Notice of Intent initiates the scoping process, which guides the development of the PEIS. The Coast Guard is seeking comments on the potential environmental impacts that may result from the Proposed Action or preliminary Alternatives. The Coast Guard is also seeking input on relevant information, studies, or analyses of any kind concerning impacts potentially affecting the quality of the human environment as a result of the Proposed Action. NEPA requires federal agencies to consider environmental impacts that may result from a Proposed Action, to inform the public of potential impacts and alternatives, and to facilitate public involvement in the assessment process. The PEIS would include, among other topics, discussions of the purpose and need for the Proposed Action, a description of alternatives, a description of the affected environment, and an evaluation of the environmental impact of the Proposed Action and alternatives.

The Coast Guard intends to follow the CEQ regulations implementing NEPA (40 CFR 1500 et. seq.) by scoping through public comments. Scoping, which is integral to the process for implementing NEPA, provides a process to ensure that (1) issues are identified early and properly studied; (2) issues of little significance do not consume substantial time and effort; (3) the Draft PEIS is thorough and balanced; and (4) delays caused by an inadequate PEIS are avoided.

Public scoping is a process for determining the scope of issues to be addressed in this PEIS and for identifying the issues related to the Proposed Action that may have a significant effect on the environment. The scoping process begins with publication of this notice. The Coast Guard seeks to do the following during the scoping process:

• Invite the participation of Federal, State, and local agencies, any affected Indian tribe, and other interested persons;

• Consult with affected Federally Recognized Tribes on a government-to-government basis in accordance with Executive Order 13175 and other policies. Native American concerns, including potential impacts on Treaty rights, Indian trust assets, and cultural resources, will be given appropriate consideration;

• Determine the scope and the issues to be analyzed in depth in the PEIS;

• Indicate any related environmental assessments or environmental impact statements that are not part of the PEIS;

• Identify other relevant environmental review and consultation requirements, such as Coastal Zone Management Act consistency evaluations, and threatened and endangered species and habitat impacts; and

• Indicate the relationship between timing of the environmental review and other aspects of the application process.

With this Notice of Intent, Federal, State, Tribal, and local agencies with jurisdiction or special expertise with respect to environmental issues in the project area are asked to formally cooperate with the Coast Guard in the preparation of the PEIS.

Once the scoping process is complete, Coast Guard will prepare a Draft PEIS and will publish a Federal Register notice announcing its public availability. The public will be provided with an opportunity to review and comment on the Draft PEIS. After Coast Guard considers those comments, the Final PEIS will be prepared and its availability similarly announced to solicit public review and comment. Comments received during the Draft PEIS review period will be available in the public docket and made available in the Final PEIS.

Pursuant to the CEQ regulations, Coast Guard invites public participation in the NEPA process. This notice requests public participation in the scoping process, establishes a public comment period, and provides information on how to participate.

The 45-day public scoping period begins May 7, 2021 and ends June 21, 2021. Comments and related material submitted to the online docket via https://www.regulations.gov/ must be received by the Coast Guard on or before June 21, 2021, and mailed submission, must be postmarked on or before that same date.

We encourage you to submit specific, timely, substantive, and relevant comments through the Federal portal at http://www.regulations.gov, on the site provided when searching the above docket number or searching for “Base Seattle PEIS.” If comments cannot be submitted using http://www.regulations.gov, contact the Base Seattle Environmental Planning Program Manager at 510-637-5541 for additional help.

In submissions, please include the docket number for this Notice of Intent and provide reasoning for comments. To be considered timely, comments must be received on or before June 21, 2021 to be considered in the Draft PEIS. Comments mailed to the contact above must be postmarked by June 21, 2021. We will consider all substantive and relevant comments received during the comment period.

We accept anonymous comments. Comments we post to https://www.regulations.gov will include any personal information you have provided. For more about privacy and submissions in response to this document, see DHS's eRulemaking System of Records notice (85 FR 14226, March 11, 2020).

We review all comments received, but we will only post comments that address the topic of the notice. We may choose not to post off-topic, inappropriate, or duplicate comments that we receive. Documents mentioned in this Notice of Intent as being available in the docket, and posted public comments, will be in the online docket at http://www.regulations.gov and can be viewed by following that website's instructions.

Virtual Public Involvement

Consistent with CEQ's recently issued scoping regulation, 40 CFR 1501.9, the Coast Guard will host a web-based project site to provide additional information to the public on the Proposed Action and alternatives. Website visitors will be able to access relevant information via presentations, site maps, and project summaries, as well as submit questions and view responses to Frequently Asked Questions. Substantive and relevant questions will be answered during normal business hours (Pacific Standard Time) from May 7, 2021 through June 14, 2021. The web-based project site will be available at https://virtual.woodplc.com/VirtualSpace/102907. Formal Submission of Public comments must be submitted to the docket, or by mail, as previously described under the Public Scoping section.

Comments received in response to this solicitation, including names and addresses of those who comment, will be part of the public record for this Proposed Action.

Dated: April 30, 2021.
Carola J. List,
Rear Admiral, U.S. Coast Guard, Assistant Commandant for Engineering and Logistics.

[FR Doc. 2021-09523 Filed 5-6-21; 8:45 am]

BILLING CODE 9110-04-P